DEPARTMENT OF COMMERCE

International Trade Administration

[University of Minnesota, et al.]

Notice of Consolidated Decision on Applications for Duty-Free Entry of Scientific Instruments

This is a decision consolidated pursuant to Section 6(c) of the Educational, Scientific, and Cultural Materials Importation Act of 1966 (Pub. L. 89-651, as amended by Pub. L.106-36; 80 Stat. 897; 15 CFR part 301). Related records can be viewed between 8:30 A.M. and 5 P.M. in room 2104, U.S. Department of Commerce, 14th and Constitution Ave, NW., Washington, DC.

Comments: None received. Decision: Approved. We know of no instrument of equivalent scientific value to the foreign instruments described below, for such purposes as each is intended to be used, was being manufactured in the United States at the time of its order.

Docket Number: 07-013. Applicant: University of Minnesota. Instrument: Carbon Monoxide Monitor and Accessories. Manufacturer: Aerolaser, Germany. Intended Use: See notice at 72 CFR 31287, June 6, 2007. Reasons: The foreign instrument provides quantification of the amount of CO² due to biological activity as opposed to fossil fuel consumption. Since it will employ streaming, gigabyte, real-time fiber optic data, an instrument capable of measuring CO concentration fluctuations with the fastest response time is essential to the project.

Docket Number: 07-016. Applicant: The University of Alabama, Tuscaloosa, AL. Instrument: Fast-response NOx Analyzer. Manufacturer: Combustion Ltd., UK. Intended Use: See notice at 72 CFR 31287, June 6, 2007. Reasons: The foreign instrument provides near ms response (3 ms for NO, and < 10 ms for other oxides of N),allowing measurement of changes in concentration of NOx within an internal combustion engine cycle (2 revolutions for a 4-stroke cycle engine) and correlation with other intra-cycle data such as cylinder pressure or temperature in order to identify and determine mitigation methods of NOx formation in internal combustion engines.

Docket Number: 07-017. Applicant: Stanford University, Stanford, CA. Instrument: 1.1 Micron Wavelength Fiber Laser, Model: Boostik 5 W. Manufacturer: Koheras A/S, Denmark. Intended Use: See notice at 72 CFR 31287, June 6, 2007. Reasons: The foreign instrument provides an important accessory tool for building and testing a point-to-point freespace communication link operating in the 3.8 micron waveband to verify the system design, using parametric frequency conversion of telecom-like sources. A high-power, cw, polarized laser source operating at a wavelength of exactly 1.1 micron is essential for making these measurements.

Docket Number: 07-029. Applicant: University of Washington, Seattle, WA 98195. Instrument: Femtosecond Laser. Manufacturer: Femtolasers Produktions, GmbH, Austria. Intended Use: See notice at 72 CFR 31287, June 6, 2007. Reasons: The foreign instrument provides a necessary accessory for conducting ultra-fast nonlinear optical far and near-field microscopic investigations of nanoscale physical phenomena of ferroelectric and semiconducting materials, especially ferroelectric domain ordering of manganites. These multiferroic materials are of great interest due to their potential for nonvolatile storage devices. By using photon echo and pump probe techniques, the electronic and vibrational properties of semiconductor nanocrystals, particularly CdSe and PdSe, will be used to study the effect of quantum confinement on vibronic coupling. A femtosecond laser with with pulse durations of 10 fs and below, with more than 480 mW power will be necessary for this work.

Docket Number: 07-030. Applicant: Lehigh University, Bethlehem, PA 18015. Instrument: Low Voltage Transmission and Scanning Electron Microscope. Manufacturer: Delong Insruments A.s, Czech Republic. Intended Use: See notice at 72 CFR 31287, June 6, 2007. Reasons: The foreign instrument provides detection of proteins of interest (actin, synapsin and Rab3a) in nerve terminals, allowing immunolabeling of these proteins such that the tissue can be processed for transmission electron microscopy and the samples can be examined. This unique TEM operates at a low voltage of 5 kV, which enables obtaining of high-contrast images of non-osmicated samples, which is crucial since osmication cannot be performed together with immunolabeling. The TEM is capable of both fast and gradual changes in magnification which is needed, since nerve terminals are not readily found in the preparations of neuromuscular tissue being examined.

Docket Number: 07-031. Applicant: University of Notre Dame, Notre Dame, IN. Instrument: Surface Roughness Analyzer. Manufacturer: Elionix, Japan. Intended Use: See notice at 72 CFR 31287, June 6, 2007. Reasons: The foreign instrument will be needed to study Al and other metal tunnel junctions, microelectromechanical systems (MEMS) related materials such as Al, silicon dioxide and nitride and silicon. New imaging systems for infrared detectors in the form of both nanoantennas and micro-spectrometers will be fabricated. The instrument will be required to image the devices formed at high magnification and also to accurately determine their surface morphology. Measurement of step-coverage of thin metal films with very high resolution is crucial for determining if the nanometer scale, overlapped metal areas are properly formed. The Elionix is claimed to be essential for this work since it is the only instrument known that can perform surface roughness analysis using an electron beam.

Docket Number: 07-033. Applicant: Stanford University, Stanford, CA 94305. Instrument: Amplified Ultrafast Laser System. Manufacturer: Thales Laser, France. Intended Use: See 72 FR 36961, July 6 2007. Reasons: The foreign Instrument is an accessory that can optimize for either absorption in proteins or fragmentation for smaller molecules such as CO². The laser system will be used to generate light of different colors in a non-collinear optical parametric amplifier. The laser system used must be very reliable, with a clean mode and capability of generating reproducible high powers on a daily basis with very little noise or operator intervention.

Dated: July 10, 2007.
Faye Robinson,
Director, Statutory Import Programs Staff, Import Administration.

[FR Doc. E7-13651 Filed 7-12-07; 8:45 am]

BILLING CODE 3510-DS-S